ENVIRONMENTAL PROTECTION AGENCY

[OPP-00639; FRL-6488-2]

State FIFRA Issues Research and Evaluation Group (SFIREG) Water Quality and Pesticide Disposal Working Committee; Notice of Public Meeting

ACTION: Notice of public meeting.

SUMMARY: The SFIREG Water Quality and Pesticide Disposal Working Committee will hold a 2-day meeting, beginning on February 7, 2000 and ending on February 8, 2000. This notice announces the location and times for the meeting and sets forth the tentative agenda topics.

DATES: The State FIFRA Issues Research and Evaluation Group (SFIREG) will meet on Monday, February 7, 2000 from 8:30 a.m. to 4:00 p.m. and on Tuesday, February 8, 2000 from 8:30 a.m. to 12:00 noon. There will be a CLOSED SESSION (Open Only to EPA and State Lead Agencies) on Monday, February 7, 2000 from 4:00 p.m.-5:00 p.m.

ADDRESSES: The meeting will be held at The Doubletree Hotel, 300 Army Navy Drive, Arlington-Crystal City, VA 22202.

FOR FURTHER INFORMATION CONTACT: Philip H. Gray, SFIREG Executive Secretary, P. O. Box 1249, Hardwick, VT 05843-1249; (802) 472-6956; fax: (802) 472-6957; e-mail address: aapco@plainfield.bypass.com or Elaine Y. Lyon, Field and External Affairs Division (7506C), Office of Pesticide Programs, Environmental Protection Agency, Ariel Rios Building, 1200 Pennsylvania Ave., NW., Washington, DC 20460; telephone number: (703) 305-5306; fax number: (703) 308-1850; e-mail address: lyon.elaine@epa.gov.

SUPPLEMENTARY INFORMATION:

I. Does this Action Apply to Me?

This action is directed to the public in general, but all parties interested in SFIREG's information exchange relationship with EPA regarding important issues related to human health, environmental exposure to pesticides, and insight into the EPA's decision-making process are invited and encouraged to attend the meetings and participate as appropriate.

II. How Can I Get Additional Information, Including Copies of this Document and Other Related Documents?

1. Electronically. You may obtain electronic copies of the minutes, and certain other related documents that might be available electronically, from the EPA Internet Home Page at http://www.epa.gov/. To access this document, on the Home Page select “Laws and Regulations” and then look up the entry for this document under the “Federal Register-Environmental Documents.” You can also go directly to the Federal Register listings at http://www.epa.gov/fedrgstr/. You may also obtain electronic copies of the minutes, and certain other related documents that might be available electronically, from the Association of American Pesticide Control Officials (AAPCO) Internet Home Page at http://aapco.ceris.purdue.edu/doc/index.html. To access this document, on the Home Page select “SFIREG” and then look up the entry for this document under the “SFIREG Meetings.”

2. In person. The Agency has established an administrative record for this meeting under docket control number OPP-00639. The administrative record consists of the documents specifically referenced in this notice, any public comments received during an applicable comment period, and other information related to the State FIFRA Issues Research and Evaluation Group (SFIREG) Water Quality and Pesticide Disposal Working Committee, including any information claimed as Confidential Business Information (CBI). This administrative record includes the documents that are physically located in the docket, as well as the documents that are referenced in those documents. The public version of the administrative record, which includes printed, paper versions of any electronic comments that may be submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

III. Purpose of Meeting

Tentative Agenda:

1. Working committee issues and updates.

2. Update on pesticide field data plan.

3. Update on Total Maximum Daily Load & National Pollution Discharge Elimination System Draft Straw Proposal.

4. Office of Research and Developments grant to study “The Impact of Lawn Care Practices on Aquatic Ecosystems in Suburban Watersheds.”

5. Update on Pesticides in Ground Water and Surface Water Data bases.

6. Working committee discussion on survey on aquatic pesticides and National Pollution Discharge Elimination System permitting.

7. Florida State University grant to develop Indicators.

8. Updates from the Office of Pesticide Programs and the Office of Enforcement and Compliance Assurance.

9. Other topics as appropriate.

List of Subjects

Environmental protection,

Dated: January 14, 2000.
Jay Ellenberger,
Director, Field and External Affairs Division, Office of Pesticide Programs.

[FR Doc. 00-1547 Filed 1-21-00; 8:45 am]

BILLING CODE 6560-50-F